U.S.-CHINA ECONOMIC AND SECURITY REVIEW COMMISSION

Notice of Open Public Hearing

AGENCY: U.S.-China Economic and Security Review Commission.

ACTION: Notice of official public release of the Commission's 2016 Annual Report to Congress on November 16, 2016, Washington, DC.

SUMMARY: Notice is hereby given of the following public hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold an official public release of the Commission's 2016 Annual Report to Congress on November 16, 2016.

Purpose of Meeting

Pursuant to this mandate, the Commission will hold an official public conference in Washington, DC to release the 2016 Annual Report on November 16, 2016.

The Commission is subject to the Federal Advisory Committee Act (FACA) with the enactment of the Science, State, Justice, Commerce and Related Agencies Appropriations Act, 2006 that was signed into law on November 22, 2005 (Pub. L. 109-108). In accord with FACA, meetings of the Commission to make decisions concerning the substance and recommendations of its 2016 Annual Report to Congress are open to the public.

Topics Addressed

The Commission's 2016 Annual Report contains the following chapters and sections:

Executive Summary

Introduction

Chapter 1 : U.S.-China Economic and Trade Relations

Section 1: Year in Review: Economics and Trade

Section 2: State-Owned Enterprises, Overcapacity, and China's Market Economy Status

Section 3: 13th Five-Year Plan

Chapter 2: U.S.-China Security Relations

Section 1: Year in Review: Security and Foreign Affairs

Section 2: China's Force Projection and Expeditionary Capabilities

Section 3: China's Intelligence Services and Espionage Threats to the United States

Chapter 3: China and the World

Section 1: China and South Asia

Section 2: China and Taiwan

Section 3: China and Hong Kong

Section 4: China and North Korea

Chapter 4: China and the U.S. Rebalance to Asia

Location, Date and Time

Hart Senate Office Building, Room 902. Wednesday, November 16, 2016, Time TBA. Please check our Web site, www.uscc.gov, for possible changes to the public meeting location and time. Reservations are not required to attend the hearing.

FOR FURTHER INFORMATION CONTACT: Any member of the public seeking further information concerning the hearing should contact Leslie Tisdale, 444 North Capitol Street NW., Suite 602, Washington, DC 20001; phone: 202-624-1496, or via email at LTisdale@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: October 28, 2016.
Michael Danis,
Executive Director, U.S.-China Economic and Security Review Commission.

[FR Doc. 2016-26463 Filed 11-1-16; 8:45 am]

BILLING CODE 1137-00-P